NUCLEAR REGULATORY COMMISSION

Notice of Issuance of Regulatory Guide

AGENCY: Nuclear Regulatory Commission.

ACTION: Notice of Issuance and Availability of Regulatory Guide 10.2, Revision 2.

FOR FURTHER INFORMATION CONTACT: Mark Orr, Regulatory Guide Development Branch, Division of Engineering, Office of Nuclear Regulatory Research, U.S. Nuclear Regulatory Commission, Washington, DC 20555-0001, telephone (301) 415-6373 or e-mail to Mark.Orr@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 2 of Regulatory Guide 10.2, “Guidance to Academic Institutions Applying for Specific Byproduct Material Licenses of Limited Scope,” was issued with a temporary identification as Draft Regulatory Guide DG-0013. This guide directs the reader to the type of information sought by the NRC staff to evaluate an application from an academic institution for specific licenses of limited scope for the possession and use of byproduct material. It does not apply to applications for specific licenses of broad scope, licenses for source or special nuclear materials, or licenses for kilocurie irradiation sources. This guide identifies the general principles that the NRC staff will consider in evaluating an applicant's proposed radiation safety measures.

Title 10, Part 30, “Rules of General Applicability to Domestic Licensing of Byproduct Material,” of the Code of Federal Regulations (10 CFR Part 30) provides the regulatory framework for a limited-scope byproduct material license. Other regulations pertaining to this type of license appear in 10 CFR Part 19, “Notices, Instructions and Reports to Workers: Inspection and Investigations” and 10 CFR Part 20, “Standards for Protection Against Radiation.” The applicant should carefully study the regulations and submit all information requested.

This regulatory guide endorses the methods and procedures for limited scope byproduct material licensing contained in the current revision of NUREG-1556, Volume 7, “Consolidated Guidance about Materials Licenses: Program-Specific Guidance about Academic, Research, and Development, and Other Licenses of Limited Scope,” as a process that the NRC staff has found acceptable for meeting the regulatory requirements.

Since the publication of Revision 1 of Regulatory Guide 10.2 in December 1976, the NRC has revised the requirements for byproduct material licenses to implement a risk-informed, performance-based approach to regulation. Volume 7 of NUREG-1556 incorporates this revised approach.

II. Further Information

In January 2008, DG-0013 was published with a public comment period of 60 days from the issuance of the guide. No comments were received and the public comment period closed on April 18, 2008. Electronic copies of Regulatory Guide 10.2, Revision 2 are available through the NRC's public Web site under “Regulatory Guides” at http://www.nrc.gov/reading-rm/doc-collections/.

In addition, regulatory guides are available for inspection at the NRC's Public Document Room (PDR), which is located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr@nrc.gov.

Regulatory guides are not copyrighted, and NRC approval is not required to reproduce them.

Dated at Rockville, Maryland, this 3rd day of July, 2008.
For the Nuclear Regulatory Commission.
Stephen C. O'Connor,
Acting Chief, Regulatory Guide Development Branch, Division of Engineering, Office of Nuclear Regulatory Research.

[FR Doc. E8-15786 Filed 7-10-08; 8:45 am]

BILLING CODE 7590-01-P